DEPARTMENT OF THE TREASURY

Open Meeting of the President's Advisory Council on Financial Capability

AGENCY: Department of the Treasury.

ACTION: Notice of meeting.

SUMMARY: The President's Advisory Council on Financial Capability (“Council”) will convene for a public meeting on January 19, 2012 at the Department of the Treasury, 1500 Pennsylvania Avenue NW., Washington, DC, beginning at 10 a.m. Eastern Time. The meeting will be open to the public. The Council will: (1) Receive a report from the Council's subcommittees (Financial Access, Research and Evaluation, Partnerships, and Youth) on their progress; (2) review membership and composition of the subcommittees, and (3) hear from outside experts about practices and innovations regarding financial capability in the workplace.

DATES: The meeting will be held on January 19, 2012, at 10 a.m. Eastern Time.

SUBMISSION OF WRITTEN STATEMENTS: The public is invited to submit written statements to the Council. Written statements should be sent by any one of the following methods:

Electronic Statements

Email ofe@treasury.gov; or

Paper Statements

Send paper statements to the Department of the Treasury, Office of Financial Education and Financial Access, Main Treasury Building, 1500 Pennsylvania Avenue NW., Washington, DC 20220.

In general, the Department will make all statements available in their original format, including any business or personal information provided such as names, addresses, email addresses, or telephone numbers, for public inspection and photocopying in the Department's library, Room 1428, Main Department Building, 1500 Pennsylvania Avenue NW., Washington, DC 20220, on official business days between the hours of 10 a.m. and 5 p.m. You can make an appointment to inspect statements by calling (202) 622-0990. All statements received, including attachments and other supporting materials, are part of the public record and subject to public disclosure. You should only submit information that you wish to make publicly available.

FOR FURTHER INFORMATION CONTACT: Louisa Quittman, Director, Community Programs, Department of the Treasury, 1500 Pennsylvania Avenue NW., Washington, DC 20220, at (202) 622-5770 or ofe@treasury.gov.

SUPPLEMENTARY INFORMATION: On January 29, 2010, the President signed Executive Order 13530, creating the Council to assist the American people in understanding financial matters and making informed financial decisions, thereby contributing to financial stability. The Council is composed of two ex officio Federal officials and 13 non-governmental members appointed by the President with relevant backgrounds, such as financial services, consumer protection, financial access, and education. The role of the Council is to advise the President and the Secretary of the Treasury on means to promote and enhance individuals' and families' financial capability. The Council held its first meeting on November 30, 2010. At that meeting, the Chair recommended the establishment of five subcommittees to focus on the following strategic areas: National Strategy, Financial Access, Research and Evaluation, Partnerships, and Youth. The Council met again on April 21, 2011, and approved two recommendations: that the Department of the Treasury hold a challenge to the private sector to create applications for mobile devices that promote financial capability and financial access, and that the Department of the Treasury support the Workplace Leaders in Financial Education Award. On July 12, 2011, the Council held a public meeting via webcast. The Council presented the proposed themes and principles for the Council's consideration. For more information about the proposed themes and principles, please go to http://www.treasury.gov, click on Resource Center, then Office of Financial Education and Financial Access, and then on the President's Advisory Council on Financial Capability. The Council also recommended that the United States join other Organization for Economic Cooperation and Development countries in administering the 2012 Programme for International Student Assessment financial literacy assessment, and identify funding to support this implementation. On November 8, 2011 the Council held its fourth meeting, where it heard from experts about youth financial capability and the use of technology in improving financial capability and made recommendations to the Department of the Treasury on the development of outcome metrics, evaluation and research standards in connection with the subcommittees' report, and to work with FINRA on a second National Financial Capability Study.

In accordance with section 10(a) of the Federal Advisory Committee Act, 5 U.S.C. App. 2 and the regulations thereunder, Josh Wright, Designated Federal Officer of the Council, has ordered publication of this notice that the Council will convene its fifth meeting on January 19, 2012 at the Department of the Treasury, 1500 Pennsylvania Avenue NW., Washington, DC, beginning at 10 a.m. Eastern Time. The meeting will be open to the public. Members of the public who plan to attend the meeting must RSVP with their name, organization represented (if any), phone number, and email address. To register, please go to http://www.treasury.gov, click on Resource Center, then Office of Financial Education and Financial Access, and then on the President's Advisory Council on Financial Capability or call (202) 622-5770 by 5 p.m. Eastern Time on January 12, 2011. For entry into the building on the date of the meeting, attendees must present a government-issued ID, such as a driver's license or passport, which includes a photo. The purpose of the meeting is to receive an update from the Council's subcommittees on their progress. The Council will review the membership and the composition of its subcommittees. The Council will also hear from outside experts about practices and innovations around financial capability in the workplace.

Alastair Fitzpayne,
Executive Secretary, U.S. Department of the Treasury.

[FR Doc. 2011-33357 Filed 12-28-11; 8:45 am]

BILLING CODE 4810-25-P